DEPARTMENT OF TRANSPORTATION

Federal Aviation Administration

Notice of Intent To Rule on Application 03-06-C-00-OTH To Impose and Use the Revenue From a Passenger Facility Charge (PFC) at North Bend Municipal Airport, Submitted by the City of North Bend, Municipal Airport, North Bend, OR

AGENCY: Federal Aviation Administration (FAA), DOT.

ACTION: Notice of intent to rule on application.

SUMMARY: The FAA proposes to rule and invites public comment on the application to impose and use PFC revenue at North Bend Municipal Airport under the provisions of 49 U.S.C. 40117 and part 158 of the Federal Aviation Regulations (14 CFR part 158).

DATES: Comments must be received on or before June 2, 2003.

ADDRESSES: Comments on this application may be mailed or delivered in triplicate to the FAA at the following address: Mr. J. Wade Bryant, Manager, Seattle Airports District Office, SEA-ADO; Federal Aviation Administration; 1601 Lind Avenue SW., Suite 250, Renton, Washington 98055-4056.

In addition, one copy of any comments submitted to the FAA must be mailed or delivered to Mr. Gary LeTellier, Airport Manager, at the following address: City of North Bend/Port Of Coos Bay, 2348 Colordado Avenue, North Bend, Oregon 97459.

Air Carriers and foreign air carriers may submit copies of written comments previously provided to North Bend Municipal Airport, under § 158.23 of part 158.

FOR FURTHER INFORMATION CONTACT: Ms. Suzanne Lee-Pang, (425) 227-2654, Seattle Airports District Office, SEA-ADO; Federal Aviation Administration; 1601 Lind Avenue SW., Suite 250, Renton, Washington 98055-4056. The application may be reviewed in person at this same location.

SUPPLEMENTARY INFORMATION: The FAA proposes to rule and invites public comment on the application 03-06-C-00-OTH to impose and use PFC revenue at North Bend Municipal Airport, under the provisions of 49 U.S.C. 40117 and part 158 of the Federal Aviation Regulations (14 CFR part 158).

On April 23, 2003, the FAA determined that the application to impose and use the revenue from a PFC submitted by City of North Bend, North Bend Municipal Airport, North Bend, Oregon, was substantially complete within the requirements of § 158.25 of part 158. The FAA will approve or disapprove the application, in whole or in part, no later than July 25, 2003.

The following is a brief overview of the application.

Level of the proposed PFC: $4.50.

Proposed charge effective date: June 1, 2004.

Proposed charge expiration date: January 1, 2007.

Total requested for use approval: $287,000.

Brief description of proposed project: Renovation of Runway 13/31 Lighting System and Signage System; Navigational Aids and Backup Generator Renovations for Runway 13/31; Drainage Improvements/Parallel Taxiway System for Runway 13/31; Reconstruction and Extension of Parallel Taxiway System for Runway 13/31; Security Enhancements; Environmental Assessment for Relocation of Taxiway C; Existing Terminal Renovation.

Class or classes of air carrier, which the public agency has requested not be required to collect PFC's: Nonscheduled air taxi/commercial operators utilizing aircraft having seating capacity of less than 20 passengers.

Any person may inspect the application in person at the FAA office listed above under FOR FURTHER INFORMATION CONTACT and at the FAA Regional Airports Office located at: Federal Aviation Administration, Northwest Mountain Region, Airports Division, ANM-600, 1601 Lind Avenue SW., Suite 315, Renton, WA 98055-4056.

In addition, any person may, upon request, inspect the application, notice and other documents germane to the application in person at the North Bend Municipal Airport.

Issued in Renton, Washington on April 23, 2003.
David A. Field,
Manager, Planning, Programming, and Capacity Branch, Northwest Mountain Region.

[FR Doc. 03-10836 Filed 5-1-03; 8:45 am]

BILLING CODE 4910-13-M